DEPARTMENT OF THE INTERIOR

National Park Service

[NPS-WASO-NAGPRA-22877; PPWOCRADN0-PCU00RP14.R50000]

Notice of Inventory Completion: The Florida Department of State/Division of Historical Resources, Tallahassee, FL

AGENCY: National Park Service, Interior.

ACTION: Notice.

SUMMARY: The Florida Department of State/Division of Historical Resources has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Florida Department of State/Division of Historical Resources. If no additional requestors come forward, transfer of control of the human remains to the Indian tribes or Native Hawaiian organizations stated in this notice may proceed.

DATES: Representatives of any Indian tribe or Native Hawaiian organization not identified in this notice that wish to request transfer of control of these human remains should submit a written request with information in support of the request to the Florida Department of State/Division of Historical Resources at the address in this notice by April 6, 2017.

ADDRESSES: Daniel M. Seinfeld, Florida Department of State, Division of Historical Resources, Mission San Luis State Archaeological Collections, 2100 West Tennessee Street, Tallahassee, FL 32304, telephone (850) 245-6301.

SUPPLEMENTARY INFORMATION: Notice is here given in accordance with the Native American Graves Protection and Repatriation Act (NAGPRA), 25 U.S.C. 3003, of the completion of an inventory of human remains under the control of the Florida Department of State/Division of Historical Resources. The human remains were removed from several counties in Florida and indeterminate locations in Florida.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Florida Department of State/Division of Historical Resources professional staff in consultation with representatives of the Miccosukee Tribe of Indians. The following tribes were invited to consult but did not participate in consultation: Poarch Band of Creeks (previously listed as the Poarch Band of Creek Indians of Alabama), Seminole Tribe of Florida (previously listed as the Seminole Tribe of Florida (Dania, Big Cypress, Brighton, Hollywood & Tampa Reservations)), The Muscogee (Creek) Nation, and The Seminole Nation of Oklahoma.

History and Description of the Remains

At an unknown date, human remains representing, at minimum, 3 individuals were removed from an unknown site most likely located in Nassau or Clay Counties, FL. The human remains were in a box labeled “Johnson's Lake.” While Marion County, FL, has a Johnson Lake site (8MR63), it is not known to contain burials. Close variations of the place name (Johnson Lake, Lake Johnson) are located in Nassau and Clay Counties, FL. Coquina shell and crab claw fragments were in the box with the human remains. These items are not believed to be grave goods but their presence is consistent with archeological sites near the east coast of Florida. The human remains are fragmented and their degree of mineralization and dental attrition is consistent with human remains from prehistoric skeletal human remains from Florida. No known individuals were identified. No associated funerary objects are present.

At an unknown date, human remains representing, at minimum, 1 individual were removed from an unknown site, most likely in Daytona Beach, Volusia County, FL. The human remains were in a small box labeled “John Raabe skull fragments” and contained small cranial fragments as well as marine and land snail shells. John Raabe was a local collector in Daytona Beach, FL. The bones were fragmented and mineralized, as is typical of prehistoric skeletal human remains from Florida. The fragmented nature of the human remains and their association in the box with shell is consistent archeological contexts in peninsular Florida. No known individuals were identified. No associated funerary objects are present.

At an unknown date, human remains representing, at minimum, 4 individuals were removed from an unknown site, most likely in Volusia County, FL. These human remains were housed with other archeological material that came from Volusia County, FL, collectors. The bones were fragmented and mineralized, as is typical of prehistoric skeletal human remains from Florida. No known individuals were identified. No associated funerary objects are present.

At an unknown date, human remains representing, at minimum, 1 individual were removed from the Bissetts Mound site (8VO122) in Volusia County, FL. The human remains were found in a bag labeled “Bissetts Mound,” which is a known site (8VO122) in Volusia County, FL. The site dates to between 700 B.C. to A.D. 1700 and is known to contain burials. Due to the fragmented nature of the human remains, there are no biological markers with which to assess ancestry. No known individuals were identified. No associated funerary objects are present.

At an unknown date, human remains representing, at minimum, 2 individuals were removed from the Ormond Mound site (8VO240) in Volusia County, FL. The human remains are highly mineralized and encased in a shell midden matrix. Their reported discovery site, Ormond Mound, is a known prehistoric Native American burial ground. No known individuals were identified. No associated funerary objects are present.

The human remains in this notice from Nassau, Clay, and Volusia counties, FL, are part of a larger collection from the Museum of Arts and Sciences in Daytona Beach, FL. The Museum of Arts and Sciences in Daytona Beach accepted numerous donations in the past, often with little documentation. The Florida Department of State/Division of Historical Resources assumed jurisdiction over these human remains pursuant to Section 872.05, Florida Statutes. A physical anthropologist determined that the human remains were from a prehistoric Native American based on physical examination and the context in which they were reported discovered.

At an unknown date, human remains representing, at minimum, 1 individual were removed from an unknown site in Hillsborough County, FL. In October 2013, a woman brought to the Tampa Police Department a box containing human bones and pottery that she found in her deceased uncle's attic. She told police that her uncle and father were construction workers in the Tampa area and would often dig through construction sites collecting bones and artifacts. She had no knowledge of where the bones came from or how long her uncle had them in his possession. A detective with the Tampa Police Department brought the bones to the medical examiner who then suggested she bring them to Dr. Erin Kimmerle, a physical anthropologist with the University of South Florida. Dr. Kimmerle noted that the bones were likely human remains from a prehistoric Native American. In May 2014, the Florida Department of State/Division of Historical Resources assumed jurisdiction over these human remains pursuant to Section 872.05, Florida Statutes. A physical anthropologist determined that the human remains were from a prehistoric Native American, based on dental wear patterns, the condition of the human remains, and artifacts found in the box with the human remains. The two molars were worn, which is typical of prehistoric Native American populations in Florida. The fragmented and chalky condition of the human remains is also common among prehistoric human remains in Florida. Pottery in the shoebox with the human remains was characteristic of the Safety Harbor (A.D. 900-1700) period in the Tampa area of Florida. Such pottery is consistent with the human remains found during construction in the Tampa area. The specific contextual relationship between the pottery and the human remains is unclear. No known individuals were identified. No associated funerary objects are present.

At an unknown date in the 1970s, human remains representing, at minimum, 1 individual were removed from the Fairyland Hill site (8BR162) in Brevard County, FL. In 2013, the individual who removed the human remains brought them to a local professional archeologist. The archeologist assessed that these human remains were ancient, and passed this information along to the Florida Department of State/Division of Historical Resources. In March 2013, the Florida Department of State/Division of Historical Resources assumed jurisdiction over these human remains pursuant to Section 872.05, Florida Statutes. The human remains were determined to be from a prehistoric Native American from Florida based on their morphology and their reported discovery location. A physical anthropologist determined that the human remains were from a prehistoric Native American based on level of dental attrition and condition of the bones. The donor recalled finding the human remains from the Fairyland Hill site (8BR162), a known archeological site. His reports were confirmed by newspaper clippings and notes from the time that were in the Florida Master Site File. No known individuals were identified. No associated funerary objects are present.

At an unknown date in the 1950s, human remains representing, at minimum, 2 individuals were removed from the Coonbottom Mound site (8JE13) in Jefferson County, FL. In November 2014, the person who removed the human remains gave them to a local professional archeologist who confirmed that the human remains were ancient. In November 2014, the Florida Department of State/Division of Historical Resources assumed jurisdiction over these human remains pursuant to Section 872.05, Florida Statutes. The human remains were determined to be from a prehistoric Native American from Florida based on their morphology and their reported context. A physical anthropologist determined that the human remains were from a prehistoric Native American based on the condition of the human remains and the context in which they were reportedly discovered. The donor recalled finding the human remains in the Coonbottom Mound site (8JE13), an archeological site that is known to contain human remains. The human remains' fragmented and mineralized condition is consistent with ancient human remains. No known individuals were identified. No associated funerary objects are present.

At an unknown date in the 1980s, human remains representing, at minimum, 1 individual were collected from an unknown site in Brevard County, FL. After the person who found the human remains passed away, his family members contacted the Florida Department of State/Division of Historical Resources. In 2015, the Florida Department of State/Division of Historical Resources assumed jurisdiction over these human remains pursuant to Section 872.05, Florida Statutes. The human remains were determined to be from a prehistoric Native American from Florida based on physical examination and the context in which they were reportedly discovered. A physical anthropologist determined that the human remains were from a prehistoric Native American based on the level of dental wear and condition of the human remains. No known individuals were identified. No associated funerary objects are present.

In 1981, human remains representing, at minimum, 2 individuals were removed from the Pillsbury Mound (8MA31) in Manatee County, FL. These human remains were in the collections of the Southeast Archeological Center in Tallahassee, FL. During an assessment of their collections, Southeast Archeological Center staff realized these human remains were under the jurisdiction of the Florida Department of State/Division of Historical Resources and transferred them to the Florida Department of State/Division of Historical Resources in 2015. The human remains are fragmented and their degree of mineralization is consistent with human remains from prehistoric contexts in Florida. Previous archeological investigations have demonstrated that the Pillsbury Mound is a known burial mound that dates to the Late Weeden Island and Safety Harbor periods (A.D. 800-1700). No known individuals were identified. No associated funerary objects are present.

In 2013, human remains representing, at minimum, 25 individuals were removed from the McClamory Key site (8LV288) in Levy County, FL. In the fall of 2012, pursuant to Section 872.05, Florida Statutes, the Florida Department of State/Division of Historical Resources received information that burials were becoming exposed along the shore of McClamory Key, an uninhabited island owned by the State of Florida. Archeologists investigating the human remains found that they were likely thousands of years old and that sea level rise was exposing at least 20 burials. Through the course of multiple investigations, archeologists found evidence that some of the burials were being illicitly disturbed. Following consultation with representatives from the Miccosukee Tribe of Indians and Seminole Tribe of Florida (previously listed as the Seminole Tribe of Florida (Dania, Big Cypress, Brighton, Hollywood & Tampa Reservations)), pursuant to Section 872.05, Florida Statutes, it was determined that the only way to protect the burials from further looting was to remove and relocate the exposed burials to a safe location. Relocation on the island was impossible because it is rapidly degrading due to sea level rise. Archeologists from the University of Florida Laboratory for Southeastern Archaeology led efforts to excavate the human remains in March 2013. Based on the archeological context, the human remains likely date to 5000-4500 B.P. In 2016, the human remains were transferred to the Florida Department of State/Division of Historical Resources after inventorying and reporting requirements were completed. The human remains were determined to be prehistoric Native Americans based on their archeological context and osteological analysis. No known individuals were identified. Associated funerary objects include four hafted lithic bifaces.

Determinations Made by the Florida Department of State/Division of Historical Resources

Officials of the Florida Department of State, Division of Historical Resources have determined that:

• Pursuant to 25 U.S.C. 3001(9), the human remains described in this notice are Native American based on contextual information and osteological analysis.

• Pursuant to 25 U.S.C. 3001(9), the human remains described in this notice represent the physical remains of 43 individuals of Native American ancestry.

• Pursuant to 25 U.S.C. 3001(3)(A), the 4 objects described in this notice are reasonably believed to have been placed with or near individual human remains at the time of death or later as part of the death rite or ceremony.

• Pursuant to 25 U.S.C. 3001(2), a relationship of shared group identity cannot be reasonably traced between the Native American human remains and any present-day Indian tribe.

• According to final judgments of the Indian Claims Commission or the Court of Federal Claims, the land from which the Native American human remains and associated funerary objects were removed is the aboriginal land of the Miccosukee Tribe of Indians.

• Pursuant to 43 CFR 10.11(c)(1), the disposition of the human remains may be to the Miccosukee Tribe of Indians.

Additional Requestors and Disposition

Representatives of any Indian tribe or Native Hawaiian organization not identified in this notice that wish to request transfer of control of these human remains should submit a written request with information in support of the request to Daniel M. Seinfeld, Florida Department of State/Division of Historical Resources, Mission San Luis State Archaeological Collections, 2100 West Tennessee Street, Tallahassee, FL 32304, (850) 245-6301, by April 6, 2017. After that date, if no additional requestors have come forward, transfer of control of the human remains to the Miccosukee Tribe of Indians may proceed.

The Florida Department of State/Division of Historical Resources is responsible for notifying the Miccosukee Tribe of Indians that this notice has been published.

Dated: February 7, 2017.
Melanie O'Brien,
Manager, National NAGPRA Program.

[FR Doc. 2017-04401 Filed 3-6-17; 8:45 am]

BILLING CODE 4312-52-P